DEPARTMENT OF AGRICULTURE

Forest Service

Notice of New Fee Sites

AGENCY: White Mountain National Forest, USDA Forest Service.

ACTION: Notice.

SUMMARY: The White Mountain National Forest proposes to add Zealand Picnic Area to the Recreation Fee Program. The White Mountain Pass, which covers 27 day use sites on the Forest, will also cover Zealand Picnic Area in the pass. Fees are determined based on the level of amenities and services provided, cost of operation, maintenance, and market assessment. Funds from fees will be used for the continued operation and maintenance of the sites.

National recreation passes such as the Interagency Annual Pass, Senior Pass, Access Pass, or White Mountain National Forest Annual Pass would be valid for day use fees at these sites.

DATES: Comments on the proposal will be accepted through October 11, 2016. Fees for Zealand Picnic Area will go into effect spring of 2017 pending a recommendation from the Eastern Region Recreation Resource Advisory Committee (RRAC).

ADDRESSES: Forest Supervisor, White Mountain National Forest, 71 White Mountain Drive, Campton, NH 03223.

FOR FURTHER INFORMATION CONTACT: Marianne Leberman, Recreation & Wilderness Program Leader (603) 536-6236. Information about the proposed fee changes can also be found on the White Mountain National Forest Web site: http://www.fs.usda.gov/whitemountain.

SUPPLEMENTARY INFORMATION: The Federal Recreation Lands Enhancement Act (Title VII, Pub. L. 108-447) directed the Secretary of Agriculture to publish a six month advance notice in the Federal Register whenever new recreation fee areas are established. Prior to these fees going into effect, the White Mountain National Forest will present this proposal to the Eastern Region Recreation Resource Advisory Committee (RRAC). The Federal Lands Recreation Enhancement Act requires a recommendation from the Eastern Region Recreation Resource Advisory Committee (RRAC) prior to a decision and implementation.

Dated: August 1, 2016.
Thomas G. Wagner,
White Mountain National Forest Supervisor.

[FR Doc. 2016-18832 Filed 8-8-16; 8:45 am]

BILLING CODE 3411-15-P